DEPARTMENT OF COMMERCE

International Trade Administration

[A-570-988]

Silica Bricks and Shapes From the People's Republic of China: Postponement of Preliminary Determination of Antidumping Duty Investigation

AGENCY: Import Administration, International Trade Administration, Department of Commerce.

DATES: April 9, 2013.

FOR FURTHER INFORMATION CONTACT: Rebecca Pandolph, AD/CVD Operations, Office 4, Import Administration, International Trade Administration, U.S. Department of Commerce, 14th Street and Constitution Avenue NW., Washington, DC 20230; telephone: 202-482-3627.

SUPPLEMENTARY INFORMATION:

Postponement of Preliminary Determination

On December 12, 2012, the Department of Commerce (“Department”) published a notice of initiation of an antidumping duty investigation of silica bricks and shapes from the People's Republic of China.¹ The period of investigation is April 1, 2012, through September 30, 2012. The notice of initiation stated that, unless postponed, the Department would issue its preliminary determination for this investigation no later than 140 days after the date of the initiation in accordance with section 773(b)(1)(A) of the Tariff Act of 1930, as amended (“the Act”), and 19 CFR 351.205(b)(1). The preliminary determination of the antidumping duty investigation is currently due no later than April 24, 2013.

¹ See Silica Bricks and Shapes From the People's Republic of China: Initiation of Antidumping Duty Investigation, 77 FR 73982 (December 12, 2012).

On March 27, 2013, Utah Refractories Corporation (“Petitioner”) made a timely request pursuant to section 733(c)(1) of the Act and 19 CFR 351.205(b)(2) and (e) for postponement of the preliminary determination in this investigation.² Petitioner requested a 50-day postponement of the preliminary determination in order to provide sufficient time for review of the questionnaire responses, comment on the responses, issuance of appropriate requests for clarification and/or additional information, and consideration of the surrogate value information for properly valuing the critical factors of production of subject merchandise.

² See Letter from Petitioner to the Honorable Rebecca Blank, Secretary of Commerce, regarding “Petition for the Imposition of Antidumping Duties: Silica Bricks and Shapes from the People's Republic of China,” dated March 27, 2013.

For the reasons stated above and because there are no compelling reasons to deny the request, the Department, in accordance with section 733(c)(1)(A) of the Act and 19 CFR 351.205(e), is postponing the deadline for the preliminary determination to no later than 190 days after the date on which the Department initiated this investigation. Therefore, the new deadline for issuing the preliminary determination is June 13, 2013.

This notice is issued and published pursuant to section 733(c)(2) of the Act and 19 CFR 351.205(f)(1).

Dated: April 2, 2013.
Paul Piquado,
Assistant Secretary for Import Administration.

[FR Doc. 2013-08233 Filed 4-8-13; 8:45 am]

BILLING CODE 3510-DS-P